DEPARTMENT OF COMMERCE

National Oceanic and Atmospheric Administration

50 CFR Part 622

[Docket No. 1206013412-2517-02; RTID 0648-XD100]

Fisheries of the Caribbean, Gulf of Mexico, and South Atlantic; 2023-2024 Recreational Closure for Gulf of Mexico Greater Amberjack

AGENCY: National Marine Fisheries Service (NMFS), National Oceanic and Atmospheric Administration (NOAA), Commerce.

ACTION: Temporary rule; closure.

SUMMARY: NMFS implements an accountability measure for recreational greater amberjack in the Gulf of Mexico (Gulf) reef fish fishery for the 2023-2024 fishing year through this temporary rule. NMFS has determined that Gulf greater amberjack landings are projected to reach the recreational annual catch target (ACT) for the 2023-2024 fishing year by August 25, 2023. Therefore, the recreational fishing season for greater amberjack in the Gulf exclusive economic zone (EEZ) will close on August 25, 2023, and the sector will remain closed until the start of the next recreational fishing season on August 1, 2024. This closure is necessary to protect the Gulf greater amberjack resource.

DATES: This rule is effective 12:01 a.m., local time, August 25, 2023, until 12:01 a.m., local time, August 1, 2024.

FOR FURTHER INFORMATION CONTACT: Kelli O'Donnell, NMFS Southeast Regional Office, telephone: 727-824-5305, or email: Kelli.ODonnell@noaa.gov.

SUPPLEMENTARY INFORMATION: NMFS manages the reef fish fishery of the Gulf, which includes greater amberjack, under the Fishery Management Plan for the Reef Fish Resources of the Gulf (FMP). The Gulf of Mexico Fishery Management Council prepared the FMP and NMFS implements the FMP under the authority of the Magnuson-Stevens Fishery Conservation and Management Act (Magnuson-Stevens Act) by regulations at 50 CFR part 622. All greater amberjack weights discussed in this temporary rule are in round weight.

On June 15, 2023, NMFS published the final rule implementing Amendment 54 to the FMP (88 FR 39193). Among other measures, that final rule decreased the recreational annual catch limit (ACL) and quota (recreational ACT) for Gulf greater amberjack. Effective on the July 17, 2023, the recreational greater amberjack ACL and ACT are 404,000 lb (183,251 kg) and 335,320 lb (152,099 kg), respectively (50 CFR 622.41(a)(2)(iii) and 622.39(a)(2)(ii)).

As described at 50 CFR 622.7(h), the fishing year for the Gulf greater amberjack recreational sector is August 1 through July 31. Under 50 CFR 622.41(a)(2)(i), NMFS is required to close the greater amberjack recreational sector when the recreational ACT is reached, or is projected to be reached, by filing a notification to that effect with the Office of the Federal Register. NMFS has determined that for the 2023-2024 fishing year, the recreational ACT of 335,320 lb (152,099 kg) will be reached by August 25, 2023. Accordingly, NMFS closes recreational harvest of greater amberjack from the Gulf EEZ effective 12:01 a.m., local time, August 25, 2023, until 12:01 a.m., local time, August 1, 2024.

During the recreational closure, the bag and possession limits for greater amberjack in or from the Gulf EEZ are zero. The prohibition on possession of Gulf greater amberjack also applies in Gulf state waters for any vessel issued a valid Federal charter vessel/headboat permit for Gulf reef fish.

NMFS notes that for the current 2022-2023 recreational fishing year of August 1, 2022, through July 31, 2023, the recreational fishing season is closed. Therefore, through July 31, 2023, the bag and possession limits for greater amberjack in or from the Gulf EEZ are zero. The recreational season will reopen on August 1, 2023, the start of the 2023-2024 recreational fishing year and remain open until August 25, 2023.

Additionally, NMFS notes that on June 18, 2023, commercial harvest of Gulf greater amberjack was closed for the remainder of the current commercial fishing year of January 1 through December 31, 2023, because NMFS determined that harvest had exceeded the commercial ACL (88 FR 40121, June 21, 2023).

Classification

NMFS issues this action pursuant to section 305(d) of the Magnuson-Stevens Act. This action is required by 50 CFR 622.41(a)(1), which was issued pursuant to section 304(b) of the Magnuson-Stevens Act, and is exempt from review under Executive Order 12866.

Pursuant to 5 U.S.C. 553(b)(B), there is good cause to waive prior notice and an opportunity for public comment on this action, as notice and comment is unnecessary and contrary to the public interest. Such procedures are unnecessary because the regulations associated with the closure of the greater amberjack recreational sector 50 CFR 622.41(a)(2) have already been subject to notice and public comment, and all that remains is to notify the public of the closure. Prior notice and opportunity for public comment are contrary to the public interest because there is a need to immediately implement this action to protect the greater amberjack stock. In addition, prior notice and opportunity for public comment would require time and many of those affected by the length of the recreational fishing season, particularly for-hire operators who book trips for clients in advance, need as much notice as possible to adjust their business plans to account for the recreational fishing season.

Authority: 16 U.S.C. 1801 et seq.

Dated: June 29, 2023.
Kelly Denit,
Director, Office of Sustainable Fisheries, National Marine Fisheries Service.

[FR Doc. 2023-14164 Filed 6-29-23; 4:15 pm]

BILLING CODE 3510-22-P